FEDERAL COMMUNICATIONS COMMISSION

47 CFR Part 73

[DA 01-1859; MM Docket No. 01-175, RM-10197]

Radio Broadcasting Services; Old Fort, Fletcher, and Asheville, NC; Surgoinsville, TN; and Augusta, GA

AGENCY: Federal Communications Commission.

ACTION: Proposed rule.

SUMMARY: The Commission requests comments on a petition jointly filed by Dolphin Communications, North Carolina, Clear Channel Broadcasting Licenses, Inc., and Capstar TX Limited Partnership, proposing the reallotment of Channel 282A from Old Fort to Fletcher, North Carolina, and the modification of Station WQNQ-FM's license accordingly. To accommodate the reallotment, petitioners also propose (a) the reallotment of Channel 260C from Asheville to Old Fort, North Carolina, as a replacement service, and the modificaton of Station WKSF(FM)'s license accordingly; (b) the modification of the transmitter site of Station WEYE-FM, Channel 282A, Surgoinsville, Tennessee; and (c) the modification of the transmitter site of Station WBBQ-FM, Channel 282C, Augusta, Georgia. Channel 282A can be reallotted to Fletcher in compliance with the Commission's minimum distance separation requirements without the imposition of site restriction at petitioners' requested site. See Supplementary Information, infra.

DATES: Comments must be fled on or before September 24, 2001, and reply comments on or before October 9, 2001.

ADDRESSES: Federal Communications Commission, Washington DC 20054. In addition to filing comments with the FCC, interested parties should serve the petitioner, or its counsel or consultant, as follows: Mark N. Lipp, and J. Thomas Nolin, Esqs, Shook, Hardy & Bacon, 600 14th Street, NW., Suite 800, Washington, DC 20005-2004 (Counsel for Petitioners).

FOR FURTHER INFORMATION CONTACT: Sharon P. McDonald, Mass Media Bureau, (202) 418-2180.

SUPPLEMENTARY INFORMATION: This is a synopsis of the Commission's Notice of Proposed Rule Making, MM Docket No. 01-175, adopted July 25, 2001, and released August 3, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

To accommodate the reallotments, the reference coordinates for Channel 282A at Surgoinsville; and the reference coordinates for Channel 282C at Augusta, Georgia, can be modified at petitioners' requested sites. The reference coordinates for Channel 282A at Fletcher are 35-32-28 North Latitude and 82-32-32. Additionally, the reference coordinates for Channel 260C at Old Fort are 35-25-32 North Latitude and 82-45-25 West Longitude. The modified reference coordinates for Channel 282A at Surgoinsville are 36-33-11 North Latitude and 82-51-23 West Longitude; and the modified reference coordinates for Channel 282C at Augusta are 33-34-24 North Latitude and 81-54-17 West Longitude. In accordance with Section 1.420(i) of the Commission's Rules, we will not accept competing expressions of interest in the use of Channel 282A at Fletcher, North Carolina, or Channel 260C at Old Fort, North Carolina.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under North Carolina, is amended by removing Channel 282A at Old Fort and adding Channel 260C at Old Fort; removing Asheville, Channel 260C; and adding Fletcher, Channel 282A.

Federal Communications Commission.
John A. Karousos,
Chief, Allocations Branch, Policy and Rules Division, Mass Media Bureau.

[FR Doc. 01-20295 Filed 8-13-01; 8:45 am]

BILLING CODE 6712-01-P